DEPARTMENT OF LABOR

Office of the Secretary

Submission for OMB Review; Comment Request

September 30, 2003.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation, contact Darrin King on 202-693-4129 (this is not a toll-free number) or e-Mail: king.darrin@dol.gov.

Comments should be sent to Office of Information and Regulatory Affairs, Attn: OMB Desk Officer for the Occupational Safety and Health Administration (OSHA), Office of Management and Budget, Room 10235, Washington, DC 20503 (202-395-7316 / this is not a toll-free number), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Occupational Safety and Health Administration.

Type of Review: Extension of a currently approved collection.

Title: Ethylene Oxide (EtO).

OMB Number: 1218-0108.

Frequency: On occasion; Quarterly; Semi-annually; and Annually.

Affected Public: Business or other for-profit; Federal Government; and State, local, or tribal government.

Number of Respondents: 5,667.

Number of Annual Responses: 252,395.

Estimated Time Per Response: Varies from 5 minutes to 2 hours.

Total Burden Hours: 43,972.

Total Annualized capital/startup costs: $0.

Total annual costs (operating/maintaining systems or purchasing services): $6,582,909.

Description: The information-collection requirements specified in the Ethylene Oxide (EtO) Standard (29 CFR 1910.1047) protect employees from the adverse health effects that may result from their exposure to EtO. The major information-collection requirements of the EtO Standard include notifying employees of their EtO exposures, implementing a written compliance program, providing examining physicians with specific information, ensuring that employees receive a copy of their medical-examination results, maintaining employees' exposure-monitoring and medical records for specific periods, and providing access to these records by OSHA, the National Institute for Occupational Safety and Health, the affected employees, and their authorized representatives.

Agency: Occupational Safety and Health Administration.

Type of Review: Extension of a currently approved collection.

Title: 4,4′-Methylenedianiline Construction—29 CFR 1926.60.

OMB Number: 1218-0183.

Frequency: On occasion; Quarterly; Semi-annually; and Annually.

Affected Public: Business or other for-profit; Federal Government; and State, local, or tribal government.

Number of Respondents: 66.

Number of Annual Responses: 3,962.

Estimated Time Per Response: Varies from 1 minute to 2 hours.

Total Burden Hours: 1,609.

Total Annualized capital/startup costs: $0.

Total annual costs (operating/maintaining systems or purchasing services): $80,437.

Description: The purpose of 29 CFR 1926.60 and its information collection requirements is to provide protection for employees from adverse health effects associated with occupational exposure to 4,4′-Methylenedianiline. Employers must monitor exposure, keep employee exposures within the permissible exposure limits, provide employees with medical examinations and training, and establish and maintain employee exposure-monitoring and medical records.

Agency: Occupational Safety and Health Administration.

Type of Review: Extension of a currently approved collection.

Title: 4,4′-Methylenedianiline General Industry—29 CFR 1910.1050.

OMB Number: 1218-0184.

Frequency: On occasion; Quarterly; Semi-annually; and Annually.

Affected Public: Business or other for-profit; Federal Government; and State, local, or tribal government.

Number of Respondents: 15.

Number of Annual Responses: 581.

Estimated Time Per Response: Varies from 1 minute to 2 hours.

Total Burden Hours: 295.

Total Annualized capital/startup costs: $0.

Total annual costs (operating/maintaining systems or purchasing services): $19,037.

Description: The purpose of 29 CFR 1910.1050 and its information collection requirements is to provide protection for employees from adverse health effects associated with occupational exposure to 4,4′-Methylenedianiline. Employers must monitor exposure, keep employee exposures within the permissible exposure limits, provide employees with medical examinations and training, and establish and maintain employee exposure-monitoring and medical records.

Agency: Occupational Safety and Health Administration.

Type of Review: Extension of a currently approved collection.

Title: Electrical Protective Equipment (1910.137) and Electric Power Generation, Transmission, and Distribution (1910.269).

OMB Number: 1218-0190.

Frequency: On occasion; Semi-annually; and Annually.

Affected Public: Business or other for-profit; Not-for-profit institutions; Federal Government; and State, local, or tribal government.

Number of Respondents: 12,195.

Number of Annual Responses: 548,886.

Estimated Time Per Response: Varies from 1 minute to 15 minutes.

Total Burden Hours: 22,685.

Total Annualized capital/startup costs: $0.

Total annual costs (operating/maintaining systems or purchasing services): $0.

Description: Under 29 CFR 1910.137(b)(2)(xii), employers must certify that the electrical protective equipment used by their employees passed the tests specified in paragraphs (b)(2)(viii), (b)(2)(ix), and (b)(2)(xi) of the standard. The certification must identify the equipment that passed the tests and the dates of the tests. This provision helps ensure that electrical protective equipment is reliable and safe for employee use and will provide adequate protection against electric shock. In addition, certification helps OSHA to determine if employers are in compliance with the equipment-testing requirements of the standard.

Section 1910.269(a)(2)(vii) requires employers to certify that each employee received the training specified in paragraph (a)(2) of the standard. Employers must provide certification after an employee demonstrates proficiency in the work practices involved. This certification requirement helps employers monitor the training their employees received and helps OSHA determine if employers provided the required training to their employees.

Ira L. Mills,
Departmental Clearance Officer.

[FR Doc. 03-25268 Filed 10-3-03; 8:45 am]

BILLING CODE 4510-23-P